DEPARTMENT OF JUSTICE

Antitrust Division

Notice Pursuant to the National Cooperative Research and Production Act of 1993—North American Security Products Organization

Notice is hereby given that, on November 18, 2004, pursuant to section 6(a) of the National Cooperative Research and Production Act of 1993, 15 U.S.C. 4301 et seq. (“the Act”), North American Security Products Organization (“NASPO”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: North American Security Products Organization, Washington, DC. The nature and scope of NASPO's standards development activities are: to certify that providers of security documents, lables, cards, packaging, materials and technology, operate under an agreed-upon set of operational standards and security protocols.

Dorothy B. Fountain,
Deputy Director of Operations, Antitrust Division.

[FR Doc. 04-27069 Filed 12-9-04; 8:45 am]

BILLING CODE 4410-11-M